SURFACE TRANSPORTATION BOARD

[Docket No. FD 36486 (Sub-No. 8)]

Grainbelt Corporation—Trackage Rights Exemption—BNSF Railway Company

Grainbelt Corporation (GNBC), a Class III rail carrier, has filed a verified notice of exemption under 49 CFR 1180.2(d)(7) to extend the term of the previously amended, local trackage rights on trackage owned by BNSF Railway Company (BNSF) between approximately milepost 668.73 in Long, Okla., and approximately milepost 723.30 in Quanah, Tex. (the Line). The trackage rights allow GNBC to (1) use the Line to access the Plains Cotton Cooperative Association (PCCA) facility near BNSF Chickasha Subdivision milepost 688.6 at Altus, Okla., and (2) operate additional trains on the Line to accommodate the movement of trains transporting BNSF customers' railcars (loaded or empty) located along the Line, to unit train facilities on the Line (collectively, the PCCA Trackage Rights).¹ GNBC and BNSF have entered into an amendment to extend the PCCA Trackage Rights until March 30, 2026.²

¹ GNBC states that it originally acquired overhead trackage rights from BNSF's predecessor between Snyder Yard at milepost 664.00 and Quanah at milepost 723.30, allowing GNBC to interchange at Quanah with BNSF and Union Pacific Railroad Company. According to GNBC, these original trackage rights were amended over the years to allow various local services to be provided. In 2021, BNSF and GNBC amended the trackage rights to include the PCCA Trackage Rights, see Grainbelt Corp.—Trackage Rts. Exemption—BNSF Ry., FD 36486 (STB served Mar. 12, 2021), and those trackage rights were extended in 2022, see Grainbelt Corp.—Trackage Rts. Exemption—BNSF Ry., FD 36486 (Sub No. 2) (STB served Mar. 8, 2022), in 2023, see Grainbelt Corp—Trackage Rts. Exemption—BNSF Ry., FD 36486 (Sub-No. 4) (STB served Mar. 9, 2023) and again in 2024, see Grainbelt Corp.—Trackage Rts. Exemption—BNSF Ry., FD 36486 (Sub No. 6) (STB served Mar. 15, 2024).

² GNBC states that its verified notice is related to a petition for partial revocation, in which GNBC seeks authority to allow the trackage rights at issue here to expire automatically on March 30, 2026, the termination date set forth in the amended trackage rights agreement. GNBC's petition for partial revocation will be addressed in a separate decision in Docket No. FD 36486 (Sub-No. 9).

The transaction may be consummated on or after May 1, 2025, the effective date of the exemption (30 days after the verified notice was filed).

As a condition to this exemption, any employees affected by the acquisition of the trackage rights will be protected by the conditions imposed in Norfolk & Western Railway—Trackage Rights—Burlington Northern, Inc., 354 I.C.C. 605 (1978), as modified in Mendocino Coast Railway—Lease & Operate—California Western Railroad, 360 I.C.C. 653 (1980).

If the verified notice contains false or misleading information, the exemption is void ab initio. Petitions to revoke the exemption under 49 U.S.C. 10502(d) may be filed at any time. The filing of a petition to revoke will not automatically stay the effectiveness of the exemption. Petitions for stay must be filed no later than April 24, 2025 (at least seven days before the exemption becomes effective).

All pleadings, referring to Docket No. FD 36486 (Sub-No. 8), must be filed with the Surface Transportation Board either via e-filing on the Board's website or in writing addressed to 395 E Street SW, Washington, DC 20423-0001. In addition, a copy of each pleading must be served on GNBC's representative, Eric M. Hocky, Clark Hill PLC, Two Commerce Square, 2001 Market Street, Suite 2620, Philadelphia, PA 19103.

According to GNBC, this action is categorically excluded from environmental review under 49 CFR 1105.6(c) and from historic preservation reporting requirements under 49 CFR 1105.8(b).

Board decisions and notices are available at www.stb.gov.

Decided: April 14, 2025.
By the Board, Scott M. Zimmerman, Acting Director, Office of Proceedings.
Brendetta Jones,
Clearance Clerk.

[FR Doc. 2025-06583 Filed 4-16-25; 8:45 am]

BILLING CODE 4915-01-P